NUCLEAR REGULATORY COMMISSION

[Docket Nos. 50-250 and 50-251; NRC-2018-0074]

Florida Power & Light Company; Turkey Point Nuclear Generating Unit Nos. 3 and 4

AGENCY: Nuclear Regulatory Commission.

ACTION: License renewal application; receipt.

SUMMARY: The U.S. Nuclear Regulatory Commission (NRC) has received an application with three supplements for the subsequent renewal of Renewed Facility Operating License Nos. DPR-31 and DPR-41, which authorize Florida Power & Light Company (the applicant) to operate Turkey Point Nuclear Generating Unit Nos. 3 and 4 (Turkey Point). The renewed licenses would authorize the applicant to operate Turkey Point for an additional 20 years beyond the period specified in each of the current renewed licenses. The current renewed operating licenses for Turkey Point expire as follows: Unit 3 on July 19, 2032, and Unit 4 on April 10, 2033.

DATES: The license renewal application referenced in this document was available on March 21, 2018.

ADDRESSES: Please refer to Docket ID NRC-2018-0074 when contacting the NRC about the availability of information regarding this document. You may obtain publicly-available information related to this document using any of the following methods:

• Federal Rulemaking website: Go to http://www.regulations.gov and search for Docket ID NRC-2018-0074. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Lois M. James, Office of Nuclear Reactor Regulation, U.S. Nuclear Regulatory Commission, Washington, DC 20555-0001; telephone: 301-415-3306, email: Lois.James@nrc.gov.

SUPPLEMENTARY INFORMATION: The NRC has received an application (ADAMS Package Accession No. ML18037A812) from Florida Power & Light Company (FPL or the applicant), dated January 30, 2018, Supplement 1 to the application (ADAMS Package Accession No. ML18044A644), dated February 9, 2018; Supplement 2 to the application (ADAMS Package Accession No. ML18053A123), dated February 16, 2018; and Supplement 3 to the application (ADAMS Package Accession No. ML18072A224) dated March 1, 2018, filed pursuant to Section 103 of the Atomic Energy Act of 1954, as amended, and part 54 of title 10 of the Code of Federal Regulations, to renew the operating licenses for Turkey Point. Renewal of the license would authorize the applicant to operate the facility for an additional 20-year period beyond the period specified in the respective current renewed operating licenses. The current renewed operating licenses for Turkey Point expire as follows: Unit 3 on July 19, 2032, and Unit 4 on April 10, 2033. The Turkey Point units are Pressurized Water Reactors located in Homestead, Miami-Dade County, Florida. The acceptability of the tendered application for docketing, and other matters, including an opportunity to request a hearing, will be the subject of subsequent Federal Register notices.

A copy of the license renewal application for Turkey Point, as supplemented, is also available for inspection near the site, at the Homestead Branch Library, 700 North Homestead Boulevard, Homestead, Florida 33030, at the Naranja Branch Library, 14850 SW 280 Street, Homestead, Florida 33032.

Dated at Rockville, Maryland, this 13th day of April 2018.
For the Nuclear Regulatory Commission.
Eric R. Oesterle,
Chief, License Renewal Project Branch, Division of Materials and License Renewal, Office of Nuclear Reactor Regulation.

[FR Doc. 2018-08092 Filed 4-17-18; 8:45 am]

BILLING CODE 7590-01-P